DEPARTMENT OF THE TREASURY

Internal Revenue Service

26 CFR Part 1

[TD 9110]

RIN 1545-BA85

Section 42 Carryover and Stacking Rule Amendments; Correction

AGENCY: Internal Revenue Service (IRS), Treasury.

ACTION: Correction to final regulations.

SUMMARY: This document contains corrections to final regulations that were published in the Federal Register on January 6, 2004 (69 FR 502) that amend several existing regulations concerning the low-income housing tax credit.

EFFECTIVE DATE: These corrections are effective January 6, 2004.

FOR FURTHER INFORMATION CONTACT: Lauren R. Taylor (202) 622-3040 or Christopher J. Wilson (808) 539-2874 (not a toll free number).

SUPPLEMENTARY INFORMATION:

Background

The final regulations that are the subject of these corrections are under section 42 of the Internal Revenue Code.

Need for Correction

As published, the final regulations (TD 9110), contains errors that may prove to be misleading and are in need of clarification.

Correction of Publication

Accordingly, the publication of the final regulations (TD 9110), which were the subject of FR Doc. 03-32219, is corrected as follows:

1. On page 502, column 3, in the preamble under the paragraph heading “Special Analyses”, line 13, the language “(5 U.S.C. chapter 6) does not apply.” Is corrected to read “(5 U.S.C. chapter 6) does not apply. The collection of information contained in this Treasury decision has been previously reviewed and approved by the Office of Management and Budget in accordance with the Paperwork Reduction Act (44 U.S.C. 3507) under control number 1545-1102.”

§ 1.42-14 [Corrected]

2. On page 506, column 1, § 1.42-14(l)(2), line 12, the language “subject to the applicable applicability” is corrected to read “subject to the applicable effective”.

Cynthia E. Grigsby,
Acting Chief, Publications and Regulations Branch, Legal Processing Division, Associate Chief Counsel, (Procedure and Administration).

[FR Doc. 04-3998 Filed 2-23-04; 8:45 am]

BILLING CODE 4830-01-P